ENVIRONMENTAL PROTECTION AGENCY

[FRL-8759-2]

Good Neighbor Environmental Board; Request for Nominations to the Good Neighbor Environmental Board

AGENCY: Environmental Protection Agency (EPA).

ACTION: Notice of request for nominations.

SUMMARY: The U.S. Environmental Protection Agency (EPA) is inviting nominations from a diverse range of qualified candidates to be considered for appointment to fill vacancies on the Good Neighbor Environmental Board. Vacancies are expected to be filled by late spring 2009.

Additional sources may be utilized in the solicitation of nominees.

SUPPLEMENTARY INFORMATION: The Good Neighbor Environmental Board was created by the Enterprise for the Americas Initiative Act of 1992. Under Executive Order 12916, implementation authority is delegated to the Administrator of the EPA. The Board is responsible for providing advice to the President and Congress on environmental and infrastructure issues and needs within the states contiguous to Mexico. The statute calls for the Board to have representatives from U.S. government agencies; the states of Arizona, California, New Mexico and Texas; local government; tribes; and a variety of non-governmental officials including the private sector; academic officials; environmental group representatives; health groups; ranching and grazing interests; and other relevant sectors. U.S. government agency representatives are nominated by the heads of their agencies. Non-federal members are appointed by the Administrator of the EPA. The Board meets three times annually, twice at various locations along the U.S.-Mexico border and once in Washington, DC. The average workload for members is approximately 10 to 15 hours per month. Members serve on the Board in a voluntary capacity.

However, EPA provides reimbursement for travel expenses associated with official government business. Nominees will be considered according to the mandates of the Federal Advisory Committee Act, which requires committees to maintain diversity across a broad range of constituencies, sectors, and groups. The following criteria will be used to evaluate nominees:

• Resident of a U.S.-Mexico border state, ideally within the border region itself.

• Extensive professional knowledge of the unique environmental and infrastructure issues that are found in the region, including the bi-national dimension of these issues.

• Representative of a sector or group that helps to shape border-region environmental policy.

• Senior-level experience that fills a current need on the Board for a representative with that particular type of knowledge.

• Demonstrated ability to work in a consensus building process with a wide range of experts from diverse constituencies.

• Ability to volunteer approximately 10 to 15 hours per month to the Board's activities, including participation on meeting planning committees and preparation of text for annual reports and Comment Letters.

Nominations must include a resume describing the professional and educational qualifications of the nominee, as well as the nominee's current business address, e-mail address, and daytime telephone number. Interested candidates may self-nominate.

Submit nominations to: Mark Joyce, Designated Federal Officer, Office of Cooperative Environmental Management, U.S. Environmental Protection Agency (1601-M), 1200 Pennsylvania Avenue, NW., Washington, DC 20460.

FOR FURTHER INFORMATION CONTACT: Mark Joyce, Designated Federal Officer, U.S. Environmental Protection Agency (1601-M), Washington, DC 20460; telephone (202) 564-2130; fax (202) 564-8129; e-mail joyce.mark@epa.gov.

Dated: December 19, 2008.
Mark Joyce,
Designated Federal Officer.

[FR Doc. E8-31153 Filed 1-5-09; 8:45 am]

BILLING CODE 6560-50-M